DEPARTMENT OF JUSTICE

Office of Justice Programs

Agency Information Collection Activities: Proposed Collection; Comments Requested

ACTION: 60-Day emergency notice of information collection under review: reinstatement, with change, of a previously approved collection for which approval has expired; claim for death benefits.

The U.S. Department of Justice, Office of Justice Programs, Bureau of Justice Assistance has submitted the following information collection request to the Office of Management and Budget (OMB) for review and clearance in accordance with emergency review procedures of the Paperwork Reduction Act of 1995. OMB approval has been requested by October 30, 2003. The proposed information collection is published to obtain comments from the public and affected agencies. If granted, the emergency approval is only valid for 180 days. Comments should be directed to OMB, Office of Information and Regulation Affairs, Attention: Department of Justice Desk Officer (202) 395-5806, Washington, DC 20503. Comments are encouraged and will be accepted for 60 days until December 22, 2003.

During the first 60 days of this same review period, a regular review of this information collection is also being undertaken. All comments, suggestions, or questions regarding additional information, including requests for copies of the proposed information collection instrument with instructions, should be directed to Sharon Williams via e-mail at SharonW@ojp.usdoj.gov or via facsimile at (202) 307-0036.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected;

(4) Minimize the burden of the collection of information on those who are to respond, including through the use of appropriate automated, electronic, mechanical, or other technological collection techniques or other forms of information technology (e.g., permitting electronic submission of responses).

Overview of this information:

(1) Type of information collection: Reinstatement, with Change, of a Previously Approved Collection for which Approval has Expired.

(2) The title of the form/collection: Claim for Death Benefits.

(3) The agency form number, if any, and the applicable component of the department sponsoring the collection: Form Number: None. Bureau of Justice Assistance, Office of Justice Programs, Department of Justice.

(4) Affected public who will be asked or required to respond, as well as a brief abstract: Primary: individuals or households. Other: None. The Public Safety Officers' Benefits (PSOB) Program provides a one-time benefit of $250,000 (adjusted for cost-of-living) to the eligible survivors of local, state, and federal public safety officers whose deaths result from traumatic injuries sustained in the line of duty. The agency requires the information requested on this form to identify survivors and determine their eligibility for the PSOB benefit in accordance with the statutory requirements found in 42 U.S.C. 3796. Respondents will include surviving spouses, children, and/or parents of deceased public safety officers.

(5) An estimate of the total number of respondents and the amount of time estimated for an average respondent to respond/reply: It is estimated that each of the 320 respondents will complete the application in approximately 90 minutes.

(6) An estimate of the total public burden (in hours) associated with the collection: The estimated total public burden associated with this application is 480 hours.

If additional information is required contact: Brenda E. Dyer, Deputy Clearance Officer, Planning and Policy Staff, Justice Management Division, U.S. Department of Justice, Patrick Henry Building, 601 D Street NW., Suite 1600, Washington, DC 20530.

Dated: October 16, 2003.
Brenda E. Dyer,
Deputy Clearance Officer, U.S. Department of Justice.

[FR Doc. 03-26690 Filed 10-22-03; 8:45 am]

BILLING CODE 4410-18-M